DEPARTMENT OF HEALTH AND HUMAN SERVICES

Office of the Secretary

[Document Identifier: 4040-0005 30-day notice]

Agency Information Collection Request; 30-Day Public Comment Request, Grants.gov

AGENCY: Office of the Secretary, HHS.

ACTION: Notice.

In compliance with the requirement of section 3506(c)(2)(A) of the Paperwork Reduction Act of 1995, Grants.gov (EGOV), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, to Ed.Calimag@hhs.gov, or call the Reports Clearance Office on (202) 690-6162. Send written comments and recommendations for the proposed information collections within 30 days of this notice directly to the Grants.gov OMB Desk Officer; faxed to OMB at 202-395-6974.

Proposed Project

Application for Federal Assistance SF-424 Individual

3 Year Extension

Office: Grants.gov

Abstract: 4040-0005 is an OMB-approved collection. This information collection is used by more than 2 Federal grant-making entities, but not by HHS. Therefore, burden hours are not reported for HHS. Since this IC is used by more than 2 Federal grant-making entities, Grants.gov seeks to assign this as a common form. This IC expires on July 31, 2016. We are requesting a three-year clearance for 4040-0005 and that the form be designated as a common forms.

Estimated Annualized Burden Table
Forms (If necessary) | Type of respondent | Number of respondents | Number of responses per respondent | Average burden hours per response | Total burden hours
Application for Federal Assistance SF-424 Individual | Grant Applicant | 0 | 1 | 1 | 0
Total |  | 0 |  |  | 0

Terry S. Clark,
Asst. Information Collection Clearance Officer.

[FR Doc. 2016-14476 Filed 6-20-16; 8:45 am]

BILLING CODE 4151-AE-P